DEPARTMENT OF TRANSPORTATION

Federal Aviation Administration

Notice of Intent To Rule on Request To Release Airport Property at the Centennial Airport, Englewood, CO

AGENCY: Federal Aviation Administration (FAA), DOT.

ACTION: Notice of request to release Airport Property.

SUMMARY: The FAA proposes to rule and invite public comment on the release of land at the Centennial Airport under the provisions of Section 125 of the Wendell H. Ford Aviation Investment Reform Act for the 21st Century (AIR 21).

DATES: Comments must be received on or before September 22, 2005.

ADDRESSES: Comments on this application may be mailed or delivered to the FAA at the following address: Mr. Craig A. Sparks, Manager, Federal Aviation Administration, Northwest Mountain Region, Airports Division, Denver Airports District Office, 26805 E. 68th Ave., Suite 224, Denver, CO 80249.

In addition, one copy of any comments submitted to the FAA must be mailed or delivered to Mr. Robert Olislagers, Executive Director, Centennial Airport, 7800 South Peoria Street, Box G-1, Englewood, Colorado 80112.

FOR FURTHER INFORMATION CONTACT: Ms. Mindy Lee, Project Manager, Federal Aviation Administration, Northwest Mountain Region, Airports Division, Denver Airports District Office, 26805 E. 68th Ave., Suite 224, Denver, Colorado 80249.

The request to release property may be reviewed in person at this same location.

SUPPLEMENTARY INFORMATION: The FAA invites public comments on the request to release property at the Centennial Airport under the provisions of the AIR 21.

On July 29, 2005, the FAA determined that the request to release property at the Centennial Airport submitted by the Arapahoe County Public Airport Authority, Colorado met the procedural requirements of the Federal Aviation Regulations, part 155. The FAA may approve the request, in whole or in part, no later than September 29, 2005.

The following is a brief overview of the request:

The Centennial Airport requests the release of 16.568 acres of airport property (a portion of Parcel 15, northeast corner) from aeronautical use to non-aeronautical use. The purpose of this release is to allow Centennial Airport to lease the subject land to non-aeronautical businesses since it no longer serves any aeronautical purpose at the airport. The release of this parcel will provide revenue for airport improvements and maintenance.

Any person may inspect the request by appointment at the FAA office listed above under FOR FURTHER INFORMATION CONTACT.

In addition, any person may inspect the application, notice and other documents germane to the application in person at the Centennial Airport, 7800 South Peoria Street, Englewood, Colorado 80112.

Issued in Denver, Colorado on August 17, 2005.
Craig A. Sparks,
Manager, Denver Airports District Office.

[FR Doc. 05-16736 Filed 8-22-05; 8:45 am]

BILLING CODE 4910-13—M